ENVIRONMENTAL PROTECTION AGENCY

[FRL-6588-3]

Acid Rain Program; Notice of the Filing of Petition for Administrative Review

AGENCY: Environmental Protection Agency (EPA).

ACTION: Notice of the filing of petition for administrative review.

SUMMARY: The purpose of this notice is to announce the filing, with EPA's Environmental Appeals Board (EAB), of a petition for review by UtiliCorp United, Inc. (UCU) of a decision issued by EPA's Office of Air and Radiation, Clean Air Markets Division. This decision and petition for review concern a request submitted by UCU for approval of methods for apportionment of the nitrogen oxide (NOX) emissions from a common stack at UCU's Sibley, Missouri facility.

FOR FURTHER INFORMATION CONTACT: Dwight C. Alpern, Attorney-Advisor, Clean Air Markets Division (6204J), U.S. Environmental Protection Agency, Ariel Rios Building, 1200 Pennsylvania Avenue, NW, Washington, DC 20460 at (202) 564-9151.

SUPPLEMENTARY INFORMATION: On April 5, 2000, UCU filed, with the EAB, a petition for review (Appeal No. CAA-004) of a decision by EPA's Office of Air and Radiation, Clean Air Markets Division, dated March 6, 2000, disapproving UCU's petition for approval of methods for apportionment of the NOX emissions from a common stack at UCU's facility located at Sibley, Missouri. The appeal raises issues regarding the requirements of 40 CFR 75.17(a)(2)(iii). The appeals was filed under 40 CFR part 78 of the Acid Rain regulations and requested an evidentiary hearing. Motions for leave to intervene in Appeal No. CAA-004 under 40 CFR 78.11 must be filed by May 22, 2000 with the EAB.

Dated: May 1, 2000.
Brian J. McLean,
Director, Clean Air Markets Division.

[FR Doc. 00-11281 Filed 5-4-00; 8:45 am]

BILLING CODE 6560-50-P